DEPARTMENT OF COMMERCE

International Trade Administration

[A-533-824, C-533-825]

Polyethylene Terephthalate Film, Sheet and Strip from India: Initiation of Antidumping Duty and Countervailing Duty New Shipper Reviews

AGENCY: Import Administration, International Trade Administration, Department of Commerce.

SUMMARY: The Department of Commerce (the Department) has received requests to conduct new shipper reviews of the antidumping (AD) and countervailing duty (CVD) orders on Polyethylene Terephthalate Film, Sheet and Strip (PET Film) from India. The Department determines that these requests are sufficient to meet the regulatory requirements for initiation. See 19 CFR 351.214(c). The period of review (POR) for the AD new shipper review is July 1, 2009 to December 31, 2009, and, for the CVD new shipper review, it is January 1, 2009 to December 31, 2009.

EFFECTIVE DATE: March 9, 2010.

FOR FURTHER INFORMATION CONTACT: Elfi Blum or Mark Hoadley, AD/CVD Operations, Office 6, Import Administration, International Trade Administration, U.S. Department of Commerce, 14th Street and Constitution Avenue, NW, Washington, DC 20230; telephone: (202) 482-0197 or (202) 482-3148, respectively.

SUPPLEMENTARY INFORMATION:

Background

The notice announcing the antidumping duty order on PET Film from India was published on July 1, 2002. See Notice of Amended Final Antidumping Duty Determination of Sales at Less Than Fair Value and Antidumping Duty Order: Polyethylene Terephthalate Film, Sheet, and Strip from India, 67 FR 44175 (July 1, 2002) (Antidumping Duty Order). The notice announcing the countervailing duty order on PET Film from India was also published on July 1, 2002. See Notice of Countervailing Duty Order: Polyethylene Terephthalate Film, Sheet and Strip (PET Film) from India, 67 FR 44179 (July 1, 2002) (Countervailing Duty Order). On December 24, 2009, the Department received timely requests for AD and CVD new shipper reviews from SRF Limited in accordance with 19 CFR 351.214(c). In its requests, SRF Limited certified that it is both the producer and exporter of all of the PET Film it exported to the United States, which is the basis for its requests for new shipper reviews.

Pursuant to the requirements set forth in 19 CFR 351.214(b)(2)(i) and (iii), in its requests for new shipper reviews, SRF Limited certified that (1) it did not export PET Film to the United States during the periods of investigation (POI) in the AD and CVD investigations; and (2) since the initiation of the investigations, it has never been affiliated with any company that exported subject merchandise to the United States during the POI, including any exporter or producer not individually examined during the investigations.

In accordance with 19 CFR 351.214(b)(2)(iv), SRF Limited submitted documentation establishing the following: (1) the date on which it first shipped PET Film for export to the United States and the date on which the PET Film was first entered, or withdrawn from warehouse, for consumption; (2) the volume of its first shipment; and (3) the date of its first sale to an unaffiliated customer in the United States. Further, SRF Limited certified in its request for a CVD new shipper review, that it has also informed the Government of India that it is requesting this review and that the government will be required to provide a full response to the Department's questionnaires. See 19 CFR 351.214(b)(2)(v). SRF Limited stated that it had not made any subsequent shipments of PET film to the United States.

The Department confirmed, by examining U.S. Customs and Border Protection data, that an entry by SRF Limited was entered during the periods of review. After examining these data, the Department intends to request additional information from SRF Limited about merchandise that it exported. For a more detailed discussion, see Memorandum to the File from Mark Hoadley, Program Manager, Office 6, “New Shipper Review Initiation Checklist,” dated concurrently with this notice, at 5-6 (Initiation Checklist), on file in the Central Records Unit, room 1117, of the main Commerce building.

Initiation of New Shipper Reviews

Pursuant to 19 CFR 351.221(c), the Department will publish a notice of initiation concerning a new shipper review no later than the last day of the month following the anniversary (or semiannual anniversary) month, as appropriate. As explained in the memorandum from the Deputy Assistant Secretary (DAS) for Import Administration, the Department has exercised its discretion to toll deadlines for the duration of the closure of the Federal Government from February 5, through February 12, 2010. Thus, all deadlines in this segment of the proceeding have been extended by seven days. The revised deadline for the initiation of these new shipper reviews is now March 8, 2010. See Memorandum to the Record from Ronald Lorentzen, DAS for Import Administration, regarding “Tolling of Administrative Deadlines As a Result of the Government Closure During the Recent Snowstorm,” dated February 12, 2010.

We find that the requests submitted by SRF Limited meet the threshold requirements for initiation of AD and CVD new shipper reviews for shipments of PET Film from India. Accordingly, pursuant to section 751(a)(2)(B) of the Tariff Act of 1930, as amended (the Act) and 19 CFR 351.214(d)(1), and based on the information on the record, we are initiating these new shipper reviews for SRF Limited. See also Initiation Checklist. We intend to issue the preliminary results of these reviews no later than 180 days after the date on which these reviews are initiated, and the final results of these reviews within 90 days after the date on which the preliminary results are issued, in accordance with section 751(a)(2)(B)(iv) of the Act.

We will instruct U.S. Customs and Border Protection to allow, at the option of the importer, the posting of a bond or security of both the AD and CVD duties in lieu of a cash deposit for each entry of the subject merchandise from SRF Limited during the pendency of these reviews, in accordance with 19 CFR 351.214(e). Because SRF Limited certified that it both produced and exported the subject merchandise, the sale of which is the basis for these new shipper review requests, we will apply the bonding privilege to SRF Limited only for subject merchandise which SRF Limited both produced and exported.

Interested parties requiring access to proprietary information in this new shipper review should submit applications for disclosure under administrative protective order in accordance with 19 CFR 351.305.

This initiation and notice are in accordance with section 751(a)(2)(B) of the Act and 19 CFR 351.214 and 351.221(c)(1)(i).

Dated: March 2, 2010.
John M. Andersen.
Acting Deputy Assistant Secretary for Antidumping and Countervailing Duty Operations.

[FR Doc. 2010-5027 Filed 3-8-10; 8:45 am]

BILLING CODE 3510-DS-S